DEPARTMENT OF TRANSPORTATION

Coast Guard

[USCG-2003-14494]

National Offshore Safety Advisory Committee

AGENCY: Coast Guard, DOT.

ACTION: Notice of meeting.

SUMMARY: The National Offshore Safety Advisory Committee (NOSAC) will meet to discuss various issues relating to offshore safety and security. The meeting will be open to the public.

DATES: NOSAC will meet on Thursday, April 3, 2003, from 9 a.m. to 3 p.m. The meeting may close early if all business is finished. Written material and requests to make oral presentations should reach the Coast Guard on or before March 20, 2003. Requests to have a copy of your material distributed to each member of the committee should reach the Coast Guard on or before March 20, 2003.

ADDRESSES: NOSAC will meet in room 2415, of the Coast Guard Headquarters Bldg, 2100 Second Street, SW., Washington, DC. Send written material and requests to make oral presentations to Captain M. W. Brown, Executive Director of NOSAC, Commandant (G-MSO), U.S. Coast Guard Headquarters, 2100 Second Street SW., Washington, DC 20593-0001. This notice is available on the Internet at http://dms.dot.gov.

FOR FURTHER INFORMATION CONTACT: Captain M. W. Brown, Executive Director of NOSAC, or Mr. Jim Magill, Assistant to the Executive Director, telephone 202-267-0214, fax 202-267-4570.

SUPPLEMENTARY INFORMATION: Notice of this meeting is given under the Federal Advisory Committee Act, 5 U.S.C. App. 2.

Agenda of Meeting

National Offshore Safety Advisory Committee. The agenda includes the following:

(1) Report on issues concerning the International Maritime Organization and the International Organization for Standardization.

(2) Report by the Coast Guard on meetings held and plans to develop maritime and offshore security rules.

(3) Report from Offshore Security Subcommittee and discussion of any recommendations to the Coast Guard regarding security regulations.

(4) Report from Liftboat Subcommittee.

(5) Report from Task Force on development and implementation of the Standards of Training, Certification and Watchkeeping for Seafarers (STCW) Convention for offshore supply vessels (OSVs).

(6) Progress report from the Subcommittee on Pipeline-Free Anchorages.

(7) MMS presentation on the use of their pipeline database for the Gulf of Mexico.

(8) Revision of 33 CFR subchapter N, Outer Continental Shelf activities.

(9) Status report on Coast Guard/Minerals Management Service Inspection of Fixed Facilities.

(10) Update on Coast Guard Initiatives on Crew Fatigue.

Procedural

The meeting is open to the public. Please note that the meeting may close early if all business is finished. At the Chair's discretion, members of the public may make oral presentations during the meeting. If you would like to make an oral presentation at the meeting, please notify the Executive Director no later than March 20, 2003. Written material for distribution at the meeting should reach the Coast Guard no later than March 20, 2003. If you would like a copy of your material distributed to each member of the committee in advance of the meeting, please submit 25 copies to the Executive Director (see ADDRESSES) no later than March 20, 2003.

Information on Services for Individuals With Disabilities

For information on facilities or services for individuals with disabilities or to request special assistance at the meeting, telephone the Executive Director at 202-267-0214 as soon as possible.

Dated: February 13, 2003.
Howard L. Hime,
Acting Director of Standards, Marine Safety, Security & Environment Protection.

[FR Doc. 03-4409 Filed 2-24-03; 8:45 am]

BILLING CODE 4910-15-P